FEDERAL COMMUNICATIONS COMMISSION

47 CFR Part 73

[DA 04-501, MB Docket No. 03-207, RM-10769]

Television Broadcast Service; Osage Beach, MO

AGENCY: Federal Communications Commission.

ACTION: Final rule.

SUMMARY: The Commission, at the request of Timothy D. Lischwe, allots channel 49 to Osage Beach, Missouri. See 68 FR 61788, October 30, 2003. TV channel 49 can be allotted to Osage Beach with a plus offset in compliance with the Minimum distance separation requirements. The coordinates for channel 49+ are 38-17-33 N. and 92-34-24 W. With this action, this proceeding is terminated.

DATES: Effective April 19, 2004.

FOR FURTHER INFORMATION CONTACT: Pam Blumenthal, Media Bureau, (202) 418-1600.

SUPPLEMENTARY INFORMATION: This is a synopsis of the Commission's Report and Order, MB Docket No. 03-207, adopted February 25, 2004, and released March 3, 2004. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Missouri, is amended by adding Osage Beach and TV channel 49+.

Federal Communications Commission.
Barbara A. Kreisman,
Chief, Video Division, Media Bureau.

[FR Doc. 04-6320 Filed 3-19-04; 8:45 am]

BILLING CODE 6712-01-P